DEPARTMENT OF COMMERCE

National Oceanic and Atmospheric Administration

[RTID 0648-XB836]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow four commercial surfclam and ocean quahog vessels to conduct at-sea paralytic shellfish poisoning testing in the Closed Area II scallop access area in statistical area 562. Regulations under the Magnuson-Stevens Fishery Conservation and Management Act require publication of this notification to provide interested parties the opportunity to comment on applications for proposed Exempted Fishing Permits.

DATES: Comments must be received on or before March 17, 2022.

ADDRESSES: You may submit written comments by the following method:

• Email: nmfs.gar.efp@noaa.gov. Include in the subject line “Sea Watch Surfclam EFP.”

FOR FURTHER INFORMATION CONTACT: Laura Hansen, Fishery Management Specialist, 978-281-9225, Laura.Hansen@noaa.gov.

SUPPLEMENTARY INFORMATION: Sea Watch is requesting exemption from the Georges Bank Closed Area specified at 50 CFR 648.76(a)(4). The proposed project would conduct at-sea testing for paralytic shellfish poisoning (PSP) in the Georges Bank Closed Area II Scallop Access area.

This Exempted Fishing Permit (EFP) would allow two commercial surfclam and ocean quahog vessels, using hydraulic clam dredge gear, to conduct at-sea PSP testing in the Closed Area II Scallop Access Area in statistical area 562. The participating vessels are already certified for at-sea testing and are currently operating in the area opened on Georges Bank in 2012.

In 2008, before the open area of Georges Bank was approved, we issued an EFP for a single vessel with a harvest of 176,000 bushels (bu) of surfclams and 80,000 bu of ocean quahogs to determine if at-sea PSP testing was feasible in that area. The project now under consideration was designed to align with the original EFP that was issued to open the area of Georges Bank.

Vessels would take up to 60 trips to collect data on the presence, or lack thereof, of PSP-contaminated shellfish in the area. The project would also collect data on clam densities, shell size and landings per unit effort. No less than 10 percent of the trips would be covered by observers paid for by Sea Watch. Vessels would land up to 4,800 bu of surfclams or ocean quahogs per trip and all landings would be counted against the vessel's annual Individual Fishing Quota allocation. All landings would be handled under the current PSP protocol in place as mandated by the Food and Drug Administration and the Interstate Shellfish Sanitation Conference. A positive PSP result from any one sample would deem the area unacceptable for harvest. The vessel Captain would immediately report all positive screening test results, by telephone or email, to the Authority within the intended state of landing, the Food and Drug Administration (FDA) Shellfish Specialist, and the processor. The FDA would notify us and permitted vessels would stop fishing in the affected area(s).

Participating vessels would adhere to all seasonal groundfish closures in Closed Area II and would not retain any scallops while on EFP trips. Additionally, vessels must also adhere to all other requirements at § 648.76(a)(4)(i).

If approved, Sea Watch may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: February 25, 2022.
Ngagne Jafnar Gueye,
Acting Director, Office of Sustainable Fisheries, National Marine Fisheries Service.

[FR Doc. 2022-04393 Filed 3-1-22; 8:45 am]

BILLING CODE 3510-22-P